DEPARTMENT OF EDUCATION

34 CFR Chapter III

[CFDA Numbers: 84.133B-3, 84.133B-4, 84.133B-5, and 84.133B-6]

Final Priorities; National Institute on Disability and Rehabilitation Research—Rehabilitation Research and Training Centers

AGENCY: Office of Special Education and Rehabilitative Services, Department of Education.

ACTION: Final priorities.

SUMMARY: The Assistant Secretary for Special Education and Rehabilitative Services announces priorities for the Disability and Rehabilitation Research Projects and Centers Program administered by the National Institute on Disability and Rehabilitation Research (NIDRR). Specifically, we announce priorities for Rehabilitation Research and Training Centers (RRTCs) on Community Living and Participation for Individuals with Physical Disabilities (Priority 1), Employment of Individuals with Physical Disabilities (Priority 2), Health and Function of Individuals with Intellectual and Developmental Disabilities (Priority 3), and Community Living and Participation for Individuals with Intellectual and Developmental Disabilities (Priority 4). If an applicant proposes to conduct research under these priorities, the research must be focused on one of the four stages of research defined in this notice. The Assistant Secretary may use these priorities for competitions in fiscal year (FY) 2013 and later years. We take this action to focus research attention on areas of national need. We intend these priorities to improve outcomes among individuals with disabilities.

DATES: Effective Date: These priorities are effective June 10, 2013.

FOR FURTHER INFORMATION CONTACT: Marlene Spencer, U.S. Department of Education, 400 Maryland Avenue SW., Room 5133, Potomac Center Plaza (PCP), Washington, DC 20202-2700. Telephone: (202) 245-7532 or by email: marlene.spencer@ed.gov.

If you use a telecommunications device for the deaf (TDD) or a text telephone (TTY), call the Federal Relay Service (FRS), toll free, at 1-800-877-8339.

SUPPLEMENTARY INFORMATION:

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2)(A).

Applicable Program Regulations: 34 CFR part 350.

We published a notice of proposed priorities in the Federal Register on February 12, 2013 (78 FR 9869). That notice contained background information and our reasons for proposing these particular priorities.

There are differences between the notice of proposed priorities and this notice of final priorities as discussed in the Analysis of Comments and Changes of this notice. Public Comment: In response to our invitation in the notice of proposed priorities, eight parties submitted comments on the proposed priorities.

Generally, we do not address technical and other minor changes or suggested changes the law does not authorize us to make under the applicable statutory authority. In addition, we do not address general comments that raised concerns not directly related to the proposed priorities.

Analysis of Comments and Changes: An analysis of the comments and of any changes in the priorities since publication of the notice of proposed priorities follows.

RRTC on Community Living and Participation for Individuals With Physical Disabilities (Priority 1)

We received no comments on this priority.

RRTC on Employment of Individuals With Physical Disabilities (Priority 2)

Comment: One commenter suggested that NIDRR modify the priority to focus research on initiatives for the employment of people with physical disabilities by private industry and entrepreneurs.

Discussion: Nothing in the priority precludes an applicant from proposing research on the efforts of private industry and entrepreneurs to hire people with disabilities. However, NIDRR does not wish to further specify the research requirements in the way suggested by the commenter and thereby limit the number and breadth of applications submitted under this priority. The peer review process will determine the merits of each proposal.

Changes: None.

Comment: Two commenters noted that this employment-focused RRTC priority is aimed only at improving outcomes for individuals with physical disabilities. These commenters discussed the importance of employment outcomes for individuals with intellectual and developmental disabilities (ID/DD) and requested that individuals with ID/DD be included in the target population for this employment priority.

Discussion: By focusing the priority on employment outcomes for individuals with physical disabilities, NIDRR did not intend to convey that employment is not important to individuals in other target populations. Rather, we are following the framework described in NIDRR's Long-Range Plan for Fiscal Years 2013-2017 (78 FR 20299) (Plan), in which we discuss our commitment to funding RRTCs that are balanced across NIDRR's three domains (employment, health and function, and community living and participation), and across broad target populations. In future years, NIDRR plans to fund employment centers that are focused on each of the specific target populations described in the Plan, including individuals with ID/DD.

Changes: None.

RRTC on Health and Function of Individuals With Intellectual and Developmental Disabilities (Priority 3)

We received no comments on this priority.

RRTC on Community Living and Participation for Individuals With Intellectual and Developmental Disabilities (Priority 4)

Comment: Four commenters discussed the importance of employment outcomes for individuals with ID/DD. These commenters requested that NIDRR include employment as a specific area of community living research, either by expanding the scope of paragraph (a) or by expanding the list of priority areas under (a) to include employment.

Discussion: In our Plan, NIDRR distinguishes between “employment outcomes” and “community living and participation outcomes.” These outcome domains define specific fields of research and different service delivery systems and programs. In future years, NIDRR plans to fund RRTCs focused on the employment of the target populations identified in the Plan, including individuals with ID/DD. Under this priority, NIDRR seeks to fund research, training, technical assistance, and related activities that are focused specifically on improving community living and participation outcomes for individuals with ID/DD. While some applicants may choose to include employment as an outcome that is integral to community living and participation, we do not want to limit the number and breadth of applications submitted under this priority by requiring all applicants to do so. The peer review process will determine the merits of each application.

Changes: None.

Comments on All Four Priorities

Comment: Two commenters noted that each of the four RRTC priorities includes a requirement (paragraph (c)(ii)) to provide training to rehabilitation providers and other disability service providers, in order to facilitate more effective delivery of services. These commenters suggested that by limiting the recipients of the required training to service providers, NIDRR may be limiting the knowledge that is available to consumers, and reinforcing the knowledge barrier between service providers and consumers. These commenters suggested that NIDRR modify paragraph (c)(ii) in each priority to require the RRTCs to provide training to consumers and service providers.

Discussion: The requirements in paragraph (c)(ii) are based directly on the Federal regulations that govern our administration of the RRTC program. The regulations in 34 CFR 350.22(b)(1) require that training be provided to rehabilitation personnel or rehabilitation research personnel. We also note that recipients of training under the RRTC program may include rehabilitation or rehabilitation research personnel who have disabilities. At the same time, nothing in these regulations or in the priorities precludes applicants from proposing to provide training to individuals with disabilities, whether or not they are rehabilitation or rehabilitation research personnel.

Changes: None.

Comment: Two commenters raised questions about the broad target populations that are identified in each of the four priorities. The commenters noted that people with traumatic brain injury (TBI) or stroke have acquired cognitive or intellectual disabilities but often receive clinical services from rehabilitation professionals with expertise in physical disabilities. The commenters asked whether it would be more appropriate to submit an application under the priority for an RRTC on community living and participation for people with physical disabilities (Priority 1) or the priority for an RRTC on community living and participation for people with intellectual and developmental disabilities (Priority 4). The commenters suggested that NIDRR clarify the language related to these target populations so that applicants apply under the correct priority.

Discussion: Individuals with disabling conditions, including TBI and stroke, could be considered in multiple target populations, including individuals with physical disabilities. An individual experiencing TBI as a child or youth might also be considered an individual with intellectual or developmental disabilities, assuming the individual meets the diagnostic standards. NIDRR purposefully outlines broad categories of target populations in its Plan to allow applicants the flexibility to choose the category that is most relevant to their research questions and purposes. The peer review process will determine the merits of each proposal.

Changes: None.

Comment: Four commenters noted their support for the focus on transition in each of the four priorities. These commenters noted that transition is a process that is relevant to youth and young adults with disabilities who are moving from childhood roles into adult roles. The commenters suggested that NIDRR modify the language in paragraph (a)(v) of each priority to include transition-aged youth and young adults.

Discussion: NIDRR agrees that the process of transitioning from youth to adult roles involves both youth and young adults and will modify paragraph (a)(v) accordingly.

Changes: NIDRR has modified paragraph (a)(v) in each priority to include transition-aged youth and young adults.

Comments on the Definitions

Comment: One commenter noted that the definitions of research stages are similar to those used by the Department of Education's Institute of Education Sciences (IES). This commenter asked NIDRR to provide information that will allow applicants and reviewers to differentiate between the research stages that are defined by IES and NIDRR.

Discussion: NIDRR consulted with IES about its stages of research as we developed the stages described in this notice. Although there are differences in terminology, the two categorizations of research stages are similar in that they describe a progression of research that purposefully builds knowledge toward the development, evaluation, and widespread implementation of interventions to improve outcomes for defined target populations. IES developed its stages for application to research related to education, which generally takes place within educational system and school settings. NIDRR developed its stages, on the other hand, for application in a much wider variety of service delivery settings, including the community, rehabilitation service-delivery institutions, vocational rehabilitation settings, and many other settings in which individuals with disabilities live and participate.

Changes: None.

Comment: Two commenters noted that the research stages, as defined, are appropriate only for different stages of research on interventions. They noted that the focus on interventions does not allow applicants to describe the maturity of, or the stages involved in, other kinds of research, such as observational research or research toward the development of diagnostic or outcome assessment tools. The commenters suggested that NIDRR should acknowledge that non-intervention research can be conducted in stages and develop and publish “stages of research” that are not focused on interventions. The commenters stated that if NIDRR does not develop these additional stages of research, applicants who propose research that does not fit in the current stages should be exempt from identifying a research stage. The commenters expressed concern that research that is not focused on interventions may not be assessed properly by peer reviewers or may be seen by peer reviewers as less worthy of funding.

Discussion: NIDRR's statutory mandate and mission compels us to support research that produces interventions (e.g., practices, programs, policies) with positive effects (improved outcomes in community living and participation, employment, health and function) on the lives of individuals with disabilities. In this context, we have provided these research stages as basic guidelines to help researchers think about, plan, and describe how their research is aligned with our broad goal of improving outcomes for individuals with disabilities.

NIDRR does not plan to develop and publish “stages of research” that are not focused on interventions. We recognize that research toward the development of a new disability outcomes measure, for example, may be in an advanced or mature stage of measure development. Applicants are free to describe the maturity, or staging of, their proposed research using any framework that they think is appropriate. However, NIDRR believes that all disability and rehabilitation research can and should be categorized under the stages described in this notice so that it is clear how the research that we sponsor is aligned with the practical intent of our authorizing legislation and our mission.

NIDRR views no single research stage as more important than another. By providing a framework for applicants to describe how their research is currently needed at a particular stage and to describe the foundation laid for it at earlier stages of research, we aim to help propel research from exploratory stages to scale-up stages in which benefits can be experienced by large numbers of individuals with disabilities. NIDRR is actively developing peer reviewer orientation strategies to ensure that peer reviewers understand that NIDRR values high-quality research at each of the stages described in this notice.

Changes: None.

Comment: Three commenters asked NIDRR to provide additional details in the definitions of the four research stages, noting that many research projects could be placed in more than one stage. Similarly, one commenter noted that the terms used to describe the “scale-up evaluation” stage of research could be interpreted broadly and that this category could overlap substantially with the “intervention efficacy” stage. All three commenters asked for further clarification of the definitions of the stages or for illustrations and examples of each.

Discussion: NIDRR has developed these research stages as broad guidelines to help researchers think about, plan, and describe how their research furthers the aim of improving outcomes for individuals with disabilities. Within the definition of each stage, we have purposefully used language that allows applicants to categorize their proposed research in more than one stage depending on the specifics of their planned work. For example, throughout each definition, we use the word “may” instead of “must.” In paragraph (b) of each priority, NIDRR allows applicants the flexibility to propose “research that can be categorized under more than one of the research stages, or research that progresses from one stage to another.” With this flexibility, applicants may describe and justify the stage or stages of research that they are proposing. The peer review process will determine the merits of each application.

Changes: None.

Final Priorities

Background

This notice contains four priorities. Each priority reflects a major area or domain of NIDRR's research agenda (community living and participation, health and function, and employment), combined with a specific broad disability population (physical disability or intellectual and developmental disability).

Definitions

The research that is proposed under these priorities must be focused on one or more stages of research. If the RRTC is to conduct research that can be categorized under more than one research stage, or research that progresses from one stage to another, those research stages must be clearly specified. For purposes of these priorities, the stages of research, which we published for comment on January 25, 2013, are:

(i) Exploration and Discovery means the stage of research that generates hypotheses or theories by conducting new and refined analyses of data, producing observational findings, and creating other sources of research-based information. This research stage may include identifying or describing the barriers to and facilitators of improved outcomes of individuals with disabilities, as well as identifying or describing existing practices, programs, or policies that are associated with important aspects of the lives of individuals with disabilities. Results achieved under this stage of research may inform the development of interventions or lead to evaluations of interventions or policies. The results of the exploration and discovery stage of research may also be used to inform decisions or priorities.

(ii) Intervention Development means the stage of research that focuses on generating and testing interventions that have the potential to improve outcomes for individuals with disabilities. Intervention development involves determining the active components of possible interventions, developing measures that would be required to illustrate outcomes, specifying target populations, conducting field tests, and assessing the feasibility of conducting a well-designed intervention study. Results from this stage of research may be used to inform the design of a study to test the efficacy of an intervention.

(iii) Intervention Efficacy means the stage of research during which a project evaluates and tests whether an intervention is feasible, practical, and has the potential to yield positive outcomes for individuals with disabilities. Efficacy research may assess the strength of the relationships between an intervention and outcomes, and may identify factors or individual characteristics that affect the relationship between the intervention and outcomes. Efficacy research can inform decisions about whether there is sufficient evidence to support “scaling-up” an intervention to other sites and contexts. This stage of research can include assessing the training needed for wide-scale implementation of the intervention, and approaches to evaluation of the intervention in real world applications.

(iv) Scale-Up Evaluation means the stage of research during which a project analyzes whether an intervention is effective in producing improved outcomes for individuals with disabilities when implemented in a real-world setting. During this stage of research, a project tests the outcomes of an evidence-based intervention in different settings. The project examines the challenges to successful replication of the intervention, and the circumstances and activities that contribute to successful adoption of the intervention in real-world settings. This stage of research may also include well-designed studies of an intervention that has been widely adopted in practice, but that lacks a sufficient evidence-base to demonstrate its effectiveness.

Priority 1—RRTC on Community Living and Participation for Individuals With Physical Disabilities

The Assistant Secretary for Special Education and Rehabilitative Services establishes a priority for an RRTC on Community Living and Participation for Individuals with Physical Disabilities.

The RRTC must contribute to maximizing the community living and participation outcomes of individuals with physical disabilities by:

(a) Conducting research activities in one or more of the following priority areas, focusing on individuals with physical disabilities as a group or on individuals in specific disability or demographic subpopulations of individuals with physical disabilities:

(i) Technology to improve community living and participation outcomes for individuals with physical disabilities.

(ii) Individual and environmental factors associated with improved community living and participation outcomes for individuals with physical disabilities.

(iii) Interventions that contribute to improved community living and participation outcomes for individuals with physical disabilities. Interventions include any strategy, practice, program, policy, or tool that, when implemented as intended, contributes to improvements in outcomes for individuals with physical disabilities.

(iv) Effects of government practices, policies, and programs on community living and participation outcomes for individuals with physical disabilities.

(v) Practices and policies that contribute to improved community living and participation outcomes for transition-aged youth and young adults with physical disabilities.

(b) Focusing its research on one or more specific stages of research. If the RRTC is to conduct research that can be categorized under more than one of the research stages, or research that progresses from one stage to another, those stages must be clearly specified. These stages and their definitions are provided at the beginning of the Final Priorities section in this notice.

(c) Serving as a national resource center related to community living and participation for individuals with physical disabilities, their families, and other stakeholders by conducting knowledge translation activities that include, but are not limited to:

(i) Providing information and technical assistance to service providers, individuals with physical disabilities and their representatives, and other key stakeholders;

(ii) Providing training, including graduate, pre-service, and in-service training, to rehabilitation providers and other disability service providers, to facilitate more effective delivery of services to individuals with physical disabilities. This training may be provided through conferences, workshops, public education programs, in-service training programs, and similar activities;

(iii) Disseminating research-based information and materials related to community living and participation for individuals with physical disabilities; and

(iv) Involving key stakeholder groups in the activities conducted under paragraph (a) in order to maximize the relevance and usability of the new knowledge generated by the RRTC.

Priority 2—RRTC on Employment of Individuals With Physical Disabilities

The Assistant Secretary for Special Education and Rehabilitative Services establishes a priority for an RRTC on Employment of Individuals with Physical Disabilities.

The RRTC must contribute to maximizing the employment outcomes of individuals with physical disabilities by:

(a) Conducting research activities in one or more of the following priority areas, focusing on individuals with physical disabilities as a group or on individuals in specific disability or demographic subpopulations of individuals with physical disabilities:

(i) Technology to improve employment outcomes for individuals with physical disabilities.

(ii) Individual and environmental factors associated with improved employment outcomes for individuals with physical disabilities.

(iii) Interventions that contribute to improved employment outcomes for individuals with physical disabilities. Interventions include any strategy, practice, program, policy, or tool that, when implemented as intended, contributes to improvements in outcomes for individuals with physical disabilities.

(iv) Effects of government practices, policies, and programs on employment outcomes for individuals with physical disabilities.

(v) Practices and policies that contribute to improved employment outcomes for transition-aged youth and young adults with physical disabilities.

(vi) Vocational rehabilitation (VR) practices that contribute to improved employment outcomes for individuals with physical disabilities.

(b) Focusing its research on one or more specific stages of research. If the RRTC is to conduct research that can be categorized under more than one of the research stages, or research that progresses from one stage to another, those stages must be clearly specified. These stages and their definitions are provided at the beginning of the Final Priorities section in this notice.

(c) Serving as a national resource center related to employment for individuals with physical disabilities, their families, and other stakeholders by conducting knowledge translation activities that include, but are not limited to:

(i) Providing information and technical assistance to service providers, individuals with physical disabilities and their representatives, and other key stakeholders.

(ii) Providing training, including graduate, pre-service, and in-service training, to rehabilitation providers and other disability service providers, to facilitate more effective delivery of employment services and supports to individuals with physical disabilities. This training may be provided through conferences, workshops, public education programs, in-service training programs, and similar activities.

(iii) Disseminating research-based information and materials related to employment for individuals with physical disabilities.

(iv) Involving key stakeholder groups in the activities conducted under paragraph (a) in order to maximize the relevance and usability of the new knowledge generated by the RRTC.

Priority 3—RRTC on Health and Function of Individuals With Intellectual and Developmental Disabilities

The Assistant Secretary for Special Education and Rehabilitative Services establishes a priority for an RRTC on the Health and Function of Individuals with Intellectual and Developmental Disabilities.

The RRTC must contribute to maximizing the health and function outcomes of individuals with intellectual and/or developmental disabilities by:

(a) Conducting research activities in one or more of the following priority areas, focusing on individuals with intellectual and developmental disabilities as a group or on individuals in specific disability or demographic subpopulations of individuals with intellectual and developmental disabilities:

(i) Technology to improve health and function outcomes for individuals with intellectual and developmental disabilities.

(ii) Individual and environmental factors associated with improved access to rehabilitation and health care and improved health and function outcomes for individuals with intellectual and developmental disabilities.

(iii) Interventions that contribute to improved health and function outcomes for individuals with intellectual and developmental disabilities. Interventions include any strategy, practice, program, policy, or tool that, when implemented as intended, contributes to improvements in outcomes for the specified population.

(iv) Effects of government practices, policies, and programs on health care access and on health and function outcomes for individuals with intellectual and developmental disabilities.

(v) Practices and policies that contribute to improved health and function outcomes for transition-aged youth and young adults with intellectual and developmental disabilities.

(b) Focusing its research on one or more specific stages of research. If the RRTC is to conduct research that can be categorized under more than one of the research stages, or research that progresses from one stage to another, those stages must be clearly specified. These stages and their definitions are provided at the beginning of the Final Priorities section in this notice.

(c) Serving as a national resource center related to health and function for individuals with intellectual and developmental disabilities, their families, and other stakeholders by conducting knowledge translation activities that include, but are not limited to:

(i) Providing information and technical assistance to service providers, individuals with intellectual and developmental disabilities and their representatives, and other key stakeholders.

(ii) Providing training, including graduate, pre-service, and in-service training, to rehabilitation providers and other disability service providers, to facilitate more effective delivery of services to individuals with intellectual and developmental disabilities. This training may be provided through conferences, workshops, public education programs, in-service training programs, and similar activities.

(iii) Disseminating research-based information and materials related to health and function for individuals with intellectual and developmental disabilities.

(iv) Involving key stakeholder groups in the activities conducted under paragraph (a) in order to maximize the relevance and usability of the new knowledge generated by the RRTC.

Priority 4—RRTC on Community Living and Participation for Individuals With Intellectual and Developmental Disabilities

The Assistant Secretary for Special Education and Rehabilitative Services establishes a priority for an RRTC on Community Living and Participation for Individuals with Intellectual and Developmental Disabilities.

The RRTC must contribute to improving the community living and participation outcomes of individuals with intellectual and developmental disabilities by:

(a) Conducting research activities in one or more of the following priority areas, focusing on individuals with intellectual and developmental disabilities as a group or on individuals in specific disability or demographic subpopulations of individuals with intellectual and developmental disabilities:

(i) Technology to improve community living and participation outcomes for individuals with intellectual and developmental disabilities.

(ii) Individual and environmental factors associated with improved community living and participation outcomes for individuals with intellectual and developmental disabilities.

(iii) Interventions that contribute to improved community living and participation outcomes for individuals with intellectual and developmental disabilities. Interventions include any strategy, practice, program, policy, or tool that, when implemented as intended, contributes to improvements in outcomes for individuals with disabilities.

(iv) Effects of government practices, policies, and programs on community living and participation outcomes for individuals with intellectual and developmental disabilities.

(v) Practices and policies that contribute to improved community living and participation outcomes for transition-aged youth and young adults with intellectual and developmental disabilities.

(b) Focusing its research on one or more specific stages of research. If the RRTC is to conduct research that can be categorized under more than one of the research stages, or research that progresses from one stage to another, those stages must be clearly specified. These stages and their definitions are provided at the beginning of the Final Priorities section in this notice.

(c) Serving as a national resource center related to community living and participation for individuals with intellectual and developmental disabilities, their families, and other stakeholders by conducting knowledge translation activities that include, but are not limited to:

(i) Providing information and technical assistance to service providers, individuals with intellectual and developmental disabilities and their representatives, and other key stakeholders.

(ii) Providing training, including graduate, pre-service, and in-service training, to rehabilitation providers and other disability service providers, to facilitate more effective delivery of services to individuals with intellectual and developmental disabilities. This training may be provided through conferences, workshops, public education programs, in-service training programs, and similar activities.

(iii) Disseminating research-based information and materials related to community living and participation for individuals with intellectual and developmental disabilities.

(iv) Involving key stakeholder groups in the activities conducted under paragraph (a) in order to maximize the relevance and usability of the new knowledge generated by the RRTC.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use one or more of these priorities, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities only on a reasoned determination that their benefits justify their costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years, as projects similar to the ones envisioned by the final priorities have been completed successfully. Establishing new RRTCs based on the final priorities will generate new knowledge through research and improve the lives of individuals with disabilities. The new RRTCs will provide support and assistance for NIDRR grantees as they generate, disseminate, and promote the use of new information that will improve the options for individuals with disabilities to perform regular activities of their choice in the community.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 6, 2013.
Michael K. Yudin,
Delegated the authority to perform the functions and the duties of the Assistant Secretary for Special Education and Rehabilitative Services.

[FR Doc. 2013-11086 Filed 5-8-13; 8:45 am]

BILLING CODE 4000-01-P